FEDERAL RESERVE SYSTEM

12 CFR Part 205

[Regulation E; Docket No. R-1343]

Electronic Fund Transfers

June 4, 2010.

AGENCY: Board of Governors of the Federal Reserve System.

ACTION: Final rule; correction.

SUMMARY: The Board of Governors of the Federal Reserve System (Board) published in the Federal Register of June 4, 2010, a document amending Regulation E and the official staff commentary to clarify certain aspects of the Regulation E final rule. This document corrects a typographical error in the amendatory instruction.

DATES: Effective Date: July 6, 2010.

FOR FURTHER INFORMATION CONTACT: Dana E. Miller or Vivian W. Wong, Senior Attorneys, or Ky Tran-Trong, Counsel, Division of Consumer and Community Affairs, at (202) 452-3667 or (202) 452-2412, Board of Governors of the Federal Reserve System, 20th and C Streets, NW., Washington, DC 20551. For users of Telecommunications Device for the Deaf (TDD) only, contact (202) 263-4869.

SUPPLEMENTARY INFORMATION: The Board published a document in the Federal Register of June 4, 2010 (75 FR 31665). The document (FR Doc. 2010-13280) amended Regulation E and the official staff commentary to clarify certain aspects of the November 2009 Regulation E final rule addressing overdraft services, and contained a typographical error in amendatory instruction number 2.

In the final rule, FR Doc. 2010-13280, published on June 4, 2010 (75 FR 31665) make the following correction:

PART 205—ELECTRONIC FUND TRANSFERS (REGULATION E)

1. On page 31671, in the third column, correct amendatory instruction 2 to read as follows:

“2. Section 205.17 is amended by revising paragraph (b)(1) introductory text and removing paragraph (b)(4) to read as follows:”

By order of the Board of Governors of the Federal Reserve System, June 10, 2010.
Jennifer J. Johnson,
Secretary of the Board.

[FR Doc. 2010-14353 Filed 6-14-10; 8:45 am]

BILLING CODE 6210-01-P